DEPARTMENT OF DEFENSE

Department of the Navy

Notice of Intent To Prepare an Environmental Impact Statement/Overseas Environmental Impact Statement for the Southern California Range Complex (including the San Clemente Island Range Complex) and To Announce Public Scoping Meetings

AGENCY: Department of the Navy, DoD.

ACTION: Notice.

SUMMARY: Pursuant to Section 102(2)(c) of the National Environmental Policy Act (NEPA) of 1969, as implemented by the Council on Environmental Quality regulations (40 CFR parts 1500-1508), and Presidential Executive Order 12114 (Environmental Effects Abroad of Major Federal Actions), the Department of the Navy (DON) announces its intent to prepare an Environmental Impact Statement (EIS)/Overseas Environmental Impact Statement (OEIS) to evaluate the potential environmental effects associated with conducting naval readiness activities in the Southern California (SOCAL) Range Complex (to include the San Clemente Island (SCI) Range Complex). DON proposes to support current, emerging, and future military activities in the SOCAL and SCI Range Complexes as necessary to achieve and sustain Fleet readiness, including military training; research, development, testing, and evaluation (RDT&E) of systems, weapons, and platforms; and investment in range resources and range infrastructure, all in furtherance of our statutory obligations under Title 10 of the United States Code governing the roles and responsibilities of the DON.

On August 17, 1999, DON initiated the NEPA process for an EIS/OEIS evaluating the impacts of DON activities at the SCI Range Complex by publishing a Notice of Intent in the Federal Register (64 FR 44716-44717). DON has determined that it is appropriate to include within the scope of the SOCAL Range Complex EIS/OEIS the previously announced environmental analysis of military activities on the SCI Range. Therefore, this Notice of Intent supersedes and withdraws the August 17, 1999, notice of the DON's intent to prepare an EIS/OEIS for the SCI Range Complex.

Dates and Addresses: Three public scoping meetings will be held to receive oral and written comments on environmental concerns that should be addressed in the EIS/OEIS. Public scoping meetings will be held on the following dates, at the times and locations specified:

1. Wednesday, January 29, 2007, 6 p.m.-8 p.m., Cabrillo Marine Aquarium Library, 3720 Stephen M. White Drive, San Pedro, CA.

2. Tuesday, January 30, 2007, 6 p.m.-8 p.m., Oceanside Civic Center Library, 330 North Coast Highway, Oceanside, CA.

3. Wednesday, January 31, 2007, 6 p.m.-8 p.m., Coronado Public Library, 640 Orange Avenue, Coronado, CA.

Each meeting will consist of an information session staffed by DON representatives, to be followed by a presentation describing the proposed action and alternatives. Written comments from interested parties are encouraged to ensure that the full range of relevant issues is identified. Members of the public can contribute oral or written comments at the scoping meetings, or written comments by mail or fax, subsequent to the meetings. Additional information concerning the scoping meetings is available at: http://www.SocalRangeComplexEIS.com.

FOR FURTHER INFORMATION CONTACT: Ms. Diori Kreske, Naval Facilities Engineering Command Southwest, 2585 Callaghan Hwy., San Diego, CA 92136-5198; telephone 619-556-8706.

SUPPLEMENTARY INFORMATION: The SOCAL Range Complex is a suite of land ranges and training areas, surface and subsurface ocean ranges and operating areas, and military airspace that is centrally managed and controlled by DON agencies. The complex geographically encompasses near-shore and offshore surface ocean operating areas and extensive military Special Use Airspace generally located between Marine Corp Base Camp Pendleton to the north and San Diego to the south. It extends more than 600 miles to the southwest in the Pacific Ocean covering approximately 120,000 square nautical miles of ocean area. The SCI Range Complex is geographically encompassed by the SOCAL Range Complex. The SCI Range Complex consists of land ranges and training areas on San Clemente Island and certain near-island ocean operating areas and ranges.

Collectively, the components of the SOCAL Range Complex provide the space and resources needed to execute training events across the training continuum, from individual skills training to complex joint exercises. The mission of the SOCAL Range Complex is to support DON, Marine Corps, and joint (multi-service) training by maintaining and operating range facilities and by providing range services and support to the Pacific Fleet, U.S. Marine Corps Forces Pacific, and other forces and military activities. The Commander, Fleet Forces Command and Commander, U.S. Pacific Fleet are responsible for operations, maintenance, training, and support of this national training asset.

Naval transformation initiatives determine current, emerging, and future requirements for training access to the SOCAL Range Complex. Moreover, recent world events have placed the U.S. military on heightened alert in the defense of the U.S., and in defense of allied nations. At this time, the U.S. military, and specifically the U.S. Navy, is actively engaged in anti-terrorism efforts around the globe. Title 10 U.S. Code Section 5062 directs the Chief of Naval Operations to maintain, train, and equip all naval forces for combat so that they are capable of winning wars, deterring aggression, and maintaining freedom of the seas. To achieve this level of readiness, naval forces must have access to ranges, operating areas (OPAREAs), and airspace where they can develop and maintain skills for wartime missions and conduct RDT&E of naval weapons systems. As such, DON ranges, OPAREAs, and airspace must be maintained and/or enhanced to accommodate necessary training and testing activities in support of national security objectives.

The proposed action, therefore, responds to DON's need to: (1) Maintain baseline operations at current levels; (2) accommodate future increases in operational training tempo in the SOCAL and SCI Range Complexes as necessary to support the deployment of naval forces; (3) achieve and sustain readiness in ships and squadrons so that the DON can quickly surge significant combat power in the event of a national crisis or contingency operation and consistent with Fleet Readiness Training Plan; (4) support the acquisition, testing, training, and introduction into the Fleet of advanced platforms and weapons systems; and, (5) implement investments to optimize range capabilities required to adequately support required training. DON will meet these needs and maintain the long-term viability of the SOCAL Range Complex, while protecting human health and the environment.

Three alternatives will be evaluated in the EIS/OEIS, including: (1) The No Action Alternative, comprised of baseline operations and support of existing range capabilities; (2) Alternative 1 comprised of the No Action Alternative plus additional operations on upgraded/-modernized existing ranges; and (3) Alternative 1 plus new ranges, new dedicated capabilities, additional increased tempo (beyond Alternative 1) to optimize training in support of future contingencies. The analysis will address potentially significant direct, indirect, and cumulative impacts on biological resources, land use, air quality, water quality, water resources, and socioeconomics, as well as other environmental issues that could occur with the implementation of the DON's proposed actions and alternatives.

The DON is initiating the scoping process to identify community concerns and local issues to be addressed in the EIS/OEIS. Federal, State, and local agencies, and interested parties are encouraged to provide oral and/or written comments to the DON that identify specific issues or topics of environmental concern that should be addressed in the EIS/OEIS. Written comments must be postmarked by February 8, 2007, and should be mailed to: Naval Facilities Engineering Command Southwest, 2585 Callaghan Hwy., San Diego, CA 92136-5198; Attention: Ms. Diori Kreske, telephone 619-556-8706.

Dated: December 13, 2006.
M.A. Harvison,
Lieutenant Commander, Judge Advocate General's Corps, Federal Legislative Liaison Officer.

[FR Doc. E6-21802 Filed 12-20-06; 8:45 am]

BILLING CODE 3810-FF-P